DEPARTMENT OF TRANSPORTATION

Federal Aviation Administration

14 CFR Part 39

[Docket No. 99-NM-82-AD; Amendment 39-11612; AD 2000-05-03]

RIN 2120-AA64

Airworthiness Directives; Airbus Model A300-600 and A310 Series Airplanes

AGENCY: Federal Aviation Administration, DOT.

ACTION: Final rule.

SUMMARY: This amendment adopts a new airworthiness directive (AD), applicable to certain Airbus A300-600 and A310 series airplanes, that requires repetitive high frequency eddy current (HFEC) inspections to detect cracking of the inner flange of fuselage frame FR73A, between beams 5 and 7, and corrective actions, if necessary. This amendment is prompted by issuance of mandatory continuing airworthiness information by a foreign civil airworthiness authority. The actions specified by this AD are intended to detect and correct fatigue cracking of the inner flange of fuselage frame FR73A, which could result in reduced structural integrity of the fuselage.

DATES: Effective May 19, 2000.

The incorporation by reference of certain publications listed in the regulations is approved by the Director of the Federal Register as of May 19, 2000.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Airbus A300-600 and A31 series airplanes was published in the Federal Register on January 5, 2000 (65 FR 397). That action proposed to require repetitive high frequency eddy current (HFEC) inspections to detect cracking of the inner flange of fuselage frame FR73A, between beams 5 and 7, and corrective actions, if necessary.

Comment Received

Interested persons have been afforded an opportunity to participate in the making of this amendment. Due consideration has been given to the single comment received.

Request To Revise Applicability

The commenter, the manufacturer, requests that the applicability of the proposed AD be revised. The commenter states that the applicability should reflect the fact that inspections required by the proposed AD are necessary only on airplanes on which Airbus Modification 06925 has been installed during production. Because the retrofit solution has better stress margins compared to those of the production solution, airplanes with the retrofit solution are not subject to the unsafe condition. The commenter also states that Model A300F4-600 (freighter) series airplanes should not be included in the applicability of the AD because no aft passenger/crew doors and no frames FR73A (which are the subject areas of the inspections) exist on these airplanes. The commenter suggests that such an exclusion in the AD can best be addressed by excluding airplanes on which Airbus Modification 08907 has been accomplished, since Modification 08907 removes the reinforcements installed by Modification 06925.

The FAA concurs with the request to limit the applicability of the AD by including only those airplanes on which Airbus Modification 06925 has been installed in production, and by excluding airplanes on which Airbus Modification 08907 has been accomplished. The FAA has determined that the revised applicability will more accurately reflect those airplanes subject to the unsafe condition that is identified and addressed by the AD. The applicability of the final rule has been revised accordingly.

Conclusion

The FAA has determined that air safety and the public interest require the adoption of the rule with the change described previously. The FAA has determined that this change will neither increase the economic burden on any operator nor increase the scope of the AD.

Interim Action

This is considered to be interim action. The inspection reports that are required by this AD will enable the manufacturer to obtain better insight into the nature, cause, and extent of the cracking, and eventually to develop final action to fully address the unsafe condition. Once final action has been identified, the FAA may consider further rulemaking.

Cost Impact

The FAA estimates that 198 airplanes of U.S. registry will be affected by this AD, that it will take approximately 1 work hour per airplane to accomplish the required inspection, and that the average labor rate is $60 per work hour. Based on these figures, the cost impact of the AD on U.S. operators is estimated to be $11,880, or $60 per airplane, per inspection cycle.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-05-03 Airbus Industrie: Amendment 39-11612. Docket 99-NM-82-AD.

Applicability: Model A300-600 and A310 series airplanes, certificated in any category, on which Airbus Modification 06925 has been accomplished in production; except airplanes on which Airbus Modification 08907 has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To detect and correct fatigue cracking of the inner flange of fuselage frame FR73A, which could result in reduced structural integrity of the fuselage, accomplish the following:

HFEC Inspection

(a) Prior to the accumulation of 18,000 total flight cycles, or within 3,000 flight cycles after the effective date of this AD, whichever occurs later: Perform a high frequency eddy current (HFEC) inspection to detect cracking of the inner flange (left and right sides) of the rear fuselage frame FR73A, between beams 5 and 7, in accordance with Airbus Service Bulletin A310-53-2107, Revision 01 (for Model A310 series airplanes), or A300-53-6116, Revision 01 (for Model A300-600 series airplanes); both dated July 2, 1999; as applicable.

(1) If no crack is detected, repeat the HFEC inspection thereafter at intervals not to exceed 5,000 flight cycles.

(2) For any crack that is less than or equal to 0.20 inch (5.0 millimeters) in length: Prior to further flight, accomplish either paragraph (a)(2)(i) or (a)(2)(ii) of this AD.

(i) Rework the frame in accordance with the applicable service bulletin. Within 3,000 flight cycles after accomplishing the rework, replace the fuselage frame FR73A between beams 5 and 7 with a new frame section in accordance with the applicable service bulletin. Or

(ii) Replace the fuselage frame FR73A between beams 5 and 7 with a new frame section, in accordance with the applicable service bulletin.

(3) For any crack greater than 0.20 inch (5.0 millimeters) in length: Prior to further flight, accomplish either paragraph (a)(3)(i) or (a)(3)(ii) of this AD.

(i) Repair in accordance with a method approved by the Manager, International Branch, ANM-116, FAA, Transport Airplane Directorate; or the Direction Générale de l'Aviation Civile (DGAC) (or its delegated agent). Or

(ii) Replace the fuselage frame FR73A between beams 5 and 7 with a new section, in accordance with the applicable service bulletin.

(b) Within 18,000 flight cycles after any replacement accomplished in accordance with paragraph (a)(2)(i), (a)(2)(ii), or (a)(3)(ii) of this AD: Repeat the inspection specified by paragraph (a) of this AD. Thereafter, repeat the inspection at intervals not to exceed 5,000 flight cycles.

(c) Submit a report of inspection findings (both positive and negative) of any inspection required by this AD to Airbus Industrie, Customer Services Directorate, 1 Rond Point Maurice Bellonte, 31707 Blagnac Cedex, France; at the applicable time specified in paragraph (c)(1) or (c)(2) of this AD. The report must include the inspection results, a description of any discrepancies found, the airplane serial number, the age of the airplane since entry into service, and the number of landings and flight hours on the airplane. Information collection requirements contained in this regulation have been approved by the Office of Management and Budget (OMB) under the provisions of the Paperwork Reduction Act of 1980 (44 U.S.C. 3501 et seq.) and have been assigned OMB Control Number 2120-0056.

(1) For airplanes on which the inspection required by paragraph (a) of this AD is accomplished after the effective date of this AD: Submit the report within 10 days after performing the inspection.

(2) For airplanes on which the inspection required by paragraph (a) of this AD has been accomplished prior to the effective date of this AD: Submit the report within 10 days after the effective date of this AD.

Alternative Methods of Compliance

(d) An alternative method of compliance or adjustment of the compliance time that provides an acceptable level of safety may be used if approved by the Manager, International Branch, ANM-116. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(e) Special flight permits may be issued in accordance with §§ 21.197 and 21.199 of the Federal Aviation Regulations (14 CFR 21.197 and 21.199) to operate the airplane to a location where the requirements of this AD can be accomplished.

Incorporation by Reference

(f) Except as provided by paragraph (a)(3)(i) of this AD, the actions shall be done in accordance with Airbus Service Bulletin A310-53-2107, Revision 01, dated July 2, 1999, or Airbus Service Bulletin A300-53-6116, Revision 01, dated July 2, 1999; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 1999-013-276(B), dated January 13, 1999.

(g) This amendment becomes effective on May 19, 2000.

Issued in Renton, Washington, on April 5, 2000.
Donald L. Riggin,
Acting Manager, Transport Airplane Directorate, Aircraft Certification Service.

[FR Doc. 00-8988 Filed 4-13-00; 8:45 am]

BILLING CODE 4910-13-U